DEPARTMENT OF AGRICULTURE

Forest Service

Manti-La Sal National Forest, Utah; Maverick Point Forest Health Project

AGENCY: Forest Service, USDA.

ACTION: Notice of intent to prepare environmental impact statement.

SUMMARY: The Forest Service will prepare an Environmental Impact Statement (EIS) to document the analysis and disclose the environmental impacts of the Maverick Point Forest Health Project. This project is designed to achieve goals of increasing aspen and ponderosa pine forest stand resilience and resistance to insects, disease, drought, and wildfire by altering stand density, species composition, and age class structure via use of timber harvesting and prescribed fire. Project activities also seek to maintain or improve the productivity and diversity of wildlife habitat and improve watershed health through restoring or protecting selected springs or active head cuts, closing unauthorized roads, and reclaiming abandoned uranium mine adits and waste rock. The project is also designed to provide for a sustainable and manageable system of roads and trails to meet public and administrative needs in the project area.

DATES: Comments concerning the scope of the analysis described in this notice must be received by February 14, 2013. The draft environmental impact statement is expected October 2013 and the date planned for release of the final EIS is March 2014.

ADDRESSES: Questions or written comments concerning the proposed action or requests for copies of the proposal should be addressed to Michael Diem or Greg Montgomery at the following address: Moab/Monticello Ranger District, Manti-La Sal National Forest, P.O. Box 820, Monticello, Utah 84535, phone: 435-587-2041. Comments can also be hand delivered Monday through Friday 8 a.m. to 4:30 p.m. at the following physical address: 432 East Center St., Monticello, Utah. Comments may also be emailed to: comments-intermtn-manti-lasal-moab-monticello@fs.fed.us or submitted via facsimile to 435-587-2637.

FOR FURTHER INFORMATION CONTACT: A detailed description of the purpose and need and proposed action can be obtained from the Moab/Monticello Ranger District, Manti-La Sal National Forest. An Internet site is also available that provides detailed information. This information can be accessed on the Manti-La Sal National Forest Internet site: http://www.fs.usda.gov/projects/mantilasal/landmanagement/projects.

Individuals who use telecommunication devices for the deaf (TDD) may call the Federal Information Relay Service (FIRS) at 1-800-877-8339 between 8 a.m. and 8 p.m., Eastern Time, Monday through Friday.

SUPPLEMENTARY INFORMATION: The Maverick Point Forest Health project area is an area with high resource and recreation values located about 14 air miles from Blanding, Utah and 14 air miles from Monticello, Utah. The project area is located within the Upper Colorado River Basin. Huc6 watersheds included are primarily the Upper North Cottonwood and Allen Canyon watersheds, but minor portions of the Cottonwood Creek and Stevens Canyon watersheds are included.

There is increasing evidence that ponderosa pine, aspen, and associated vegetation on the Manti-La Sal National Forest is being affected by climate change. Over the last 20 years drought conditions have increased; fire size, severity, and total acres burned have increased; and the health and vigor of aspen has declined as conifer encroachment increases, age, repeated drought, increasing temperatures, insects, and diseases affect many aspen clones. Ungulate grazing can also, and in areas, has had damaging effects on regenerating aspen.

National policy directs us to consider whether climate change is contributing to the health of the forest and watersheds, and where applicable, implement adaptation strategies to reduce the vulnerability of landscapes to expected climate change effects. This includes building resistance to climate-related stressors (drought, wildfire, insects, and disease) and increasing ecosystem resilience by minimizing the severity of climate change impacts, reducing vulnerability, and/or increasing the adaptive capacity of elements of the ecosystem.

The ponderosa pine vegetative community that dominates the upper mesa top and upper drainages of the project area was determined to be Condition Class 3 (FRCC-3). FRCC-3 is representative of conditions where the fire regimes have been significantly altered from their historical range. The risk of losing key ecosystem components is high. Fire frequencies have departed from historical frequencies by multiple return intervals. This results in dramatic changes to one or more of the following: fire size, intensity, severity, and landscape patterns. Vegetation attributes have been significantly altered from their historical range in the project area.

Purpose and Need for Action

The purposes of the project are:

(1) Increase resistance of ponderosa pine forest vegetation in the Maverick Point landscape and associated watersheds to climate related stressors (drought, wildfire, insects, and disease) and promote the growth and development of larger diameter trees and stands by:

• Encouraging a mosaic of vegetative conditions (species, age, and density);

• Restoration of fire occurrence to historic intervals, intensity, and severity; and

• Promoting improved health of forest stands.

(2) Increase the resistance and resilience of aspen vegetation in the Maverick Point landscape and watersheds to climate related stressors (drought, temperature change, vegetative competition, insects, and disease) and ungulate grazing pressure.

(3) Maintain or improve the productivity and diversity of wildlife habitat (Abert's squirrel, flammulated owl, turkey, northern goshawk, deer, and elk) in the project area.

(4) Maintain or improve watershed health by:

• Promoting a mosaic of vegetation ages, structures, and species (both herbaceous and woody) to buffer against large-scale fire, insect epidemics, and other disturbances;

• Moving the landscape towards historic fire regimes, thereby reducing the risk of stand-replacing fires that could damage soils and associated watershed conditions;

• Providing restoration and appropriate protection of selected springs and active head cuts in drainages;

• Closure of unauthorized roads currently in use in the project area that are not maintained and may contribute to watershed degradation; and

• Reclamation of abandoned uranium mine adits and waste rock that may be contributing contaminants downstream.

(5) Establish a ponderosa pine seed production area (SPA) for future collection of seed for reforestation on this and adjacent Forests within suitable seed transfer areas.

(6) Reduce the risk of stand-replacing fire and its negative consequences on soil, water, and vegetation resources and associated risk to life (fire fighters, recreationists, and permittees) within the area through reduction of fuels and fire hazard, restoration of Condition Class 1, and through clearing of Forest roads to provide safer ingress and egress for fire fighters and authorized public uses.

(7) Provide for a sustainable, manageable road and trail system to meet public and administrative needs within the project area.

Proposed Action

The Manti-La Sal National Forest proposes to:

(1) Implement thinning and selective harvest treatments of large (8 inches DBH [diameter at breast height] and larger) trees within stands totaling about 1,260 acres. About 660 acres would be thinned and about 600 acres would receive thinning and group selection regeneration treatments. About 5% of thin/group selection stands would be treated by clearcut or clearcut with reserve trees in openings less than two acres in size.

(2) Implement TSI (timber stand improvement) thinning treatments of small (less than 8 inches DBH) trees and deciduous shrubs (Gambel oak, manzanita, serviceberry, etc.) within stands totaling about 4,400 acres.

(3) Prescribed fire—Forested (ponderosa pine) stands and adjacent pinyon-juniper, manzanita, and Gambel oak stands would be prescribe burned with 40-80% effective burn, low intensity and severity surface fire on about 6,000 acres. About 400 acres of pinyon pine, juniper, and sagebrush burned at low to moderate intensity and severity to create a mosaic of habitat conditions for wildlife is included in the 6,000 acre prescribed burn area. In addition to initial fuel treatments, about 10 years following initial treatments, one maintenance ponderosa pine underburn is included in this proposed action on the 5600 acres prescribed burn area (excludes the wildlife habitat burn area).

(4) Treatment (of 60 to 90 acres) in areas 0.2-15 acres in size to promote regeneration and retention of aspen implementing recommendations provided in Guidelines for Aspen Restoration on the National Forests in Utah (2011).

(5) Mechanized fuel reduction treatments (mastication or crushing) would occur on about 2,040 acres to reduce hazard fuels, provide conditions more suitable for prescribed and natural fire, and improve wildlife habitat. About 340 acres will be treated with a rollerchopper to diversify the age and structure of the sagebrush community, and about 1700 acres will be masticated to remove encroaching pinyon pine, juniper, manzanita, and Gambel oak to create openings for wildlife, reduce encroachment in sagebrush openings, reduce fire hazard through reduction of ladder fuels in forest and woodland areas, and create spacing between crowns of small trees and mountain shrub groups.

(6) About 10 miles of Forest System Road would receive mechanized treatments to create shaded fuel breaks (100 feet each side of the roads) and provide safer ingress egress for the public and firefighters.

(7) Authorize the following road and trail system for implementation of this project and future management of the area:

• Level 2 (open) road—31.5 miles

• Level 1 (administrative, closed to public motorized)—6.8 miles (about 3.2 miles dual designated as Motorized Trail)

• Temporary Road (used for project implementation, closed following project)—4.6 miles; this includes use and closure of 2.5 miles of unauthorized routes currently being used by the public.

• Road closed/obliterated—13.5 miles

• Non-motorized trail—0.1 miles

• Single track motorized (motorcycle) trail—6.3 miles

• ATV (motorized < 50” width)—8.8 miles (about 2.4 miles dual designated as Level 1 road)

• Motorized Trail open to all vehicles—0.8 miles (dual designated as Level 1 road)

• Trail closed/obliterated—4.7 miles

• Total Motorized Trail—15.9 miles.

(8) Implement treatments and protection measures to protect/restore one headcut (erosion area) by Starvation Point (head of east fork of Vega Creek) and Sand Spring. Road and trail crossings of cuts/drainages will be hardened or culverts installed as determined necessary.

(9) Reclaim abandoned uranium mine adits and stabilize waste rock that may be contributing contaminants downstream.

• Adits that pose a threat to public safety will be closed by construction of a solid plug of rock and/or cement, or if utilized by bats, by installation of a lockable bat grate. Adits that are short in depth, have stable walls, have little to no water, and pose little threat to public safety will be left in their current condition (three adits).

• Adits(s) discharging water will have a small drain installed at the bottom of the wall to prevent water from accumulating behind the wall and creating a potentially hazardous condition.

• Soil and water samples are being taken to determine if uranium or other toxic heavy metals are being transported downstream from the mine adits and waste rock. If testing of soil and water determines that heavy metals and/or radionuclides are being transported downstream and it is expected these will degrade the stream water, a water filtration system will be designed and built according to Forest specifications.

• All access and exploration roads, with exception of Forest Service (FS) road 5067, will be decommissioned. The first 1,500 feet of FS road 5067 will remain as a Forest system road to provide Forest access to the public. Roads reopened temporarily to provide access for closure of adits or other associated rehabilitation work, following activities, would be ripped, have appropriate drainage installed, be seeded to minimize erosion, and be blocked to motorized access.

Possible Alternatives

Scoping comments will be used by the Forest Service to develop a range of alternatives in response to significant issues that are identified. A no-action alternative will be analyzed during the alternative process. No other tentative or preliminary alternatives have been identified at this time.

Nature of Decision To Be Made

The responsible official will decide where or not to implement the proposed action as described or to implement an alternative course of action, as expressed in alternatives to the proposed action.

This EIS will tier to the final EIS for the Manti-La Sal National Forest Land and Resource Management Plan (Forest Plan). The Manti-La Sal Forest Plan provides the overall guidance (Goals, Objectives, Standards, and Management Area Direction) to achieve the Desired Future Condition for the area being analyzed, and contains specific management area prescriptions for the entire Forest.

Responsible Official

The Responsible Official is the Acting Forest Supervisor, Allen Rowley.

Preliminary Issues

Tentative or preliminary issues that have been identified include: Unroaded character; and Management Indicator or Sensitive species.

Scoping Process

This notice of intent initiates the scoping process, which guides the development of the environmental impact statement.

The Forest Service is seeking information and comments from Federal, State, and local agencies as well as individuals and organizations that may be interested in, or affected by the proposed action. The Forest Service invites written comments and suggestions on the issues related to the proposal and the area being analyzed. Information received will be used in preparation of the Draft EIS and Final EIS. For most effective use, comments should be submitted to the Forest Service within 30 days from the date of publication of this Notice in the Federal Register. Comments should include your name, address, telephone number, organization represented (if any), title of the proposal, and specific facts and supporting reasons for us to consider in the analysis. Names and comments received are public information and will be released to those who request them. This will include names, addresses, and any other personal information provided with the comments. Comments submitted anonymously will be accepted and considered; however, anonymous comments will not provide the Agency with the ability to provide the respondent with subsequent environmental documents.

The proposed management activities would be administered by the Moab/Monticello Ranger District, Manti-La Sal National Forest, San Juan County, Utah.

The Acting Forest Supervisor for the Manti-La Sal National Forest, who is the responsible official for the EIS, will then make a decision regarding this proposal, after considering the comments, responses, and environmental consequences discussed in the Final Environmental Impact Statement, and applicable laws, regulations, and policies. The reasons for the decision will be documented in a Record of Decision. The Forest Supervisor's office of the Manti-La Sal National Forest is located at 599 West Price River Drive, Price, Utah 84501, phone: 435-637-2817.

Dated: January 9, 2013.
Allen Rowley,
Acting Forest Supervisor.

[FR Doc. 2013-00665 Filed 1-14-13; 8:45 am]

BILLING CODE 3410-11-P